DEPARTMENT OF HOUSING AND URBAN DEVELOPMENT

[Docket No. FR-4564-N-06]

Notice of Proposed Information Collection: Evaluation Study of Rounds 3-5 of HUD's Lead Hazard Control Grant Program

AGENCY: Office of Healthy Homes and Lead Hazard Control, HUD.

ACTION: Notice.

SUMMARY: The proposed information collection requirement described below will be submitted to the Office of Management and Budget (OMB) for review, as required by the Paperwork Reduction Act. The Department is soliciting public comments on the subject proposal.

DATES: Comments Due Date: January 7, 2002.

ADDRESSES: Interested persons are invited to submit comments regarding this proposal. Comments should refer to the proposal by name and/or OMB Control Number and should be sent to: Gail N. Ward, Reports Liaison Officer, Department of Housing and Urban Development, 451 7th Street, SW., Room P3206, Washington, DC 20410.

FOR FURTHER INFORMATION CONTACT: Dr. Peter Ashley, 202-755-1785 ext. 115 (this is not a toll-free number) for available documents regarding this proposal.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

The Notice also lists the following information:

Title of Proposal: Evaluation Study of Rounds 3-5 of HUD's Lead Hazard Control Grant Program.

OMB Control Number: To be assigned.

Need for the Information and Proposed Use: In order to assist in fulfilling its mission of eliminating lead-based paint hazards and other housing-related threats to children's health and safety in low-income privately-owned homes, HUD's Office of Healthy Homes and Lead Hazard Control operates a grant program for State and local governments to develop and implement cost-effective methods for the inspection and reduction of lead-based paint hazards in private owner-occupied and rental housing for low and moderate income families. From 1995 through 1998, HUD initiated Rounds 3-5 of this Lead Hazard Control Grant Program, awarding grants to 73 different States and localities. The purpose of this information collection is to study the effectiveness of the lead hazard control treatments that these recipient programs administered under the HUD grants, at specified time points (e.g., from 1 to 4 years) after the treatments were administered. To do this, HUD will study selected housing units that received lead hazard control treatments within approximately ten programs that received grants in Rounds 3-5 of this program. In housing units that agree to participate in the study, researchers will collect household information, will visually inspect the integrity of the applied treatments, and will collect environmental samples (e.g., dust and soil) to be analyzed for lead content. The data will be combined with similar types of “baseline” data for the same housing units that the grant programs collected prior to administering the treatments in these units. The pre-treatment data will be obtained for this evaluation directly from the grant programs with their cooperation. The data collected during this Rounds 3-5 Evaluation Project should allow HUD to assess how post-treatment dust-lead levels, or changes in dust-lead levels between post-treatment and pre-treatment, may differ between housing units administered treatments of different intensity or cost. The data will also contribute to HUD's awareness of long-term performance of selected lead hazard control treatments.

For a participating housing unit, this information will involve: (1) A brief interior and exterior visual inspection to assess housing conditions and the integrity of the applied treatments; (2) collection of dust-wipe samples (from floors, window sills, window troughs, selected wall surfaces, and selected exterior surfaces) and soil samples for lead analysis; and (3) a brief visual survey of the immediate neighborhood to identify and record potential releases of lead in the neighborhood environment. At least one, but possibly two, information collection visits will be made to participating housing units over a two- to three-year period. If appropriate, the results of this information collection will be used to improve existing HUD guidance for cost-effective and safe lead hazard control treatments.

Agency Form Numbers: None.

Members of affected public: Selected property owners and residents of housing units that agree to participate in the study representing approximately ten state-, county-, or city-level lead hazard control grant programs across the United States.

Total Burden Estimate:

Number of Respondents: 600.

Frequency of Response: maximum of 2.

Total hours of Response: 4,050.

Table 1.—Calculation of Respondent Burden Over the Full Study Period
Burden-causing task | Burden to tenants or resident property owners
Undergo recruitment and be briefed on the study | 15 minutes.
Review and complete Informed Consent form | 15 minutes.
Provide access to researchers for conducting post-treatment surveys and environmental sampling | 3 hours in each of 2 visits.
Undergo any post-study briefing | 15 minutes.
Total | 6.75 hours.

Average Response Time: 6.75 hours (assuming 2 visits for conducting surveys and sampling).

Total Burden for 600 units: 4,050 hours.

Status of the Proposed Information Collection: New collection.

Authority: The Paperwork Reduction Act of 1995, 44 U.S.C. Chapter 35, as amended. Dated: June 14, 1999.

Dated: November 15, 2001.
David E. Jacobs,
Director, Office of Healthy Homes and Lead Hazard Control.

[FR Doc. 01-29269 Filed 11-21-01; 8:45 am]

BILLING CODE 4210-70-M